DEPARTMENT OF THE INTERIOR

Bureau of Land Management

[21X LLUTW01000 L54100000.FR0000 LVCLJ20J0790; UTU-94509]

Notice of Realty Action: Application by US Magnesium LLC for Conveyance of Federally Owned Mineral Interests in Tooele County, UT

AGENCY: Bureau of Land Management, Interior.

ACTION: Notice of realty action.

SUMMARY: The Bureau of Land Management (BLM) is processing an application for the conveyance of federally owned mineral interests in a 3,548.41-acre parcel of land located in Tooele County, Utah, to the surface owner, US Magnesium LLC.

DATES: Interested persons may submit written comments to the BLM on or before July 30, 2021.

ADDRESSES: Submit written comments to the BLM Salt Lake Field Office, 2370 S Decker Lake Boulevard, West Valley City, UT 84119.

FOR FURTHER INFORMATION CONTACT: Jessica Wade, Salt Lake Field Manager, at the address listed earlier, by telephone at (801) 977-4350, or email at jwade@blm.gov. Persons who use a telecommunications device for the deaf may call the Federal Relay Service (FRS) at 1-800-877-8339 to leave a message or question for Ms. Wade. The FRS is available 24 hours a day, 7 days a week. Replies are provided during normal business hours.

SUPPLEMENTARY INFORMATION: The BLM is processing an application under section 209 of the Federal Land Policy and Management Act (FLPMA) to convey the federally owned mineral interests that total 3,548.41 acres situated in Tooele County, Utah. The location of the federally owned mineral interests proposed for conveyance is identical in location to the privately owned surface interest of the applicant, and is described as follows:

Salt Lake Meridian, Utah

T. 2 N., R. 8 W.,

Sec. 3;

Sec. 4, S½;

Sec. 9, less and excepting therefrom: Lot 101, ATI Titanium P.U.D., according to the official plat thereof, on file and recorded April 19, 2007 as entry no. 282779 in the official records of the Recorder of Tooele County, State of Utah;

Sec. 10, less and excepting therefrom: Lot 101, ATI Titanium P.U.D., according to the official plat thereof, on file and recorded April 19, 2007 as entry no. 282779 in the official records of the Recorder of Tooele County, State of Utah;

Sec. 11;

Sec. 12, lot 1;

Sec. 13, lot 1;

Sec. 14;

Sec. 15, less and excepting all of lots 1 and 2 Desert Power Planned Unit Development recorded October 4, 2001 as entry no. 170027 in book 707 of plats at page 841 in the office of the Tooele County Recorder, State of Utah, and lot 101, ATI Titanium P.U.D., according to the official plat thereof, on file and recorded April 19, 2007 as entry no. 282779 in the official records of the Recorder of Tooele County, State of Utah.

The area described totals 3,548.41 acres.

Under certain conditions, Section 209(b) of FLPMA authorizes the sale and conveyance of the federally owned mineral interests in land when the surface estate is not federally owned. The objective is to allow consolidation of the surface and mineral interests when either one of the following conditions exist: (1) There are no known mineral values in the land; or (2) The reservation of the mineral rights in the United States is interfering with or precluding appropriate nonmineral development of the land and such development is a more beneficial use of the land than mineral development. The applicant has deposited a sufficient sum of funding to cover the administrative costs of processing the application, including, but not limited to, the cost of the mineral potential report.

Subject to valid existing rights, on June 15, 2021 the federally owned mineral interests in the land described above is hereby segregated from all forms of appropriation under the public land laws, including the mining laws. The segregative effect will terminate upon: (1) Issuance of a patent or other document of conveyance as to the mineral interests; (2) Final rejection of the application; or (3) June 15, 2023, whichever occurs first.

Before including your address, phone number, email address, or other personal identifying information in your comment, you should be aware that your entire comment—including your personal identifying information—may be made publicly available at any time. While you can ask us in your comment to withhold your personal identifying information from public review, we cannot guarantee that we will be able to do so.

(Authority: 43 CFR 2720.1-1(b))

Gregory Sheehan,
State Director.

[FR Doc. 2021-12563 Filed 6-14-21; 8:45 am]

BILLING CODE 4310-DQ-P